DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Co-Location and Integration of HIV Prevention and Medical Care Into Behavioral Health Program—NEW

The Substance Abuse and Mental Health Services Administration's (SAMHSA) Center for Mental Health Services, (CMHS), Center for Substance Abuse Prevention (CSAP), Center for Substance Abuse Treatment (CSAT) are requesting approval from the Office of Management and Budget (OMB) for new data collection activities associated with their Co-location and Integration of HIV Prevention and Medical Care into Behavioral Health Program. The program is designed to support integrated behavioral health and physical health services for racial/ethnic populations at high risk for behavioral health disorders and at high risk for contracting HIV.

This information collection is needed to provide SAMHSA with objective information to document the reach and impact of the Co-location and Integration of HIV Prevention and Medical Care into Behavioral Health program. The information will be used to monitor quality assurance and quality performance outcomes for organizations funded by this grant program. The information will also be used to assess the impact of services on behavioral health and physical health services for individuals served by this program.

Collection of the information included in this request is authorized by Section 505 of the Public Health Service Act (42 U.S.C. 290aa-4)—Data Collection. Further support for the program was provided in the 2013 Senate Appropriations Report 113-71. The report urged SAMHSA to “focus its efforts on building capacity and outreach to individuals at risk or with a primary substance abuse disorder and to improve efforts to identify such individuals to prevent the spread of HIV.” Additional support for this data collection effort is provided by the 2013 National HIV/AIDS Strategy which instructed SAMHSA to “support and rigorously evaluate the development and implementation of new integrated behavioral health models to address the intersection of substance use, mental health, and HIV.”

The table below reflects the annualized hourly burden.

Instrument | Number of respondents | Number of responses per respondent | Total number of responses | Hours per response per respondent | Total burden hours
HIV/Hepatitis Testing Form | 5,000 | 1 | 5,000 | 0.13 | 650
Co-Located and Integrated Care TRAC—Baseline
Clients with HIV Receiving Integrated Medical Services | 200 | 1 | 200 | 0.58 | 117
Individuals only Receiving Prevention Services | 1,000 | 1 | 1,000 | 0.12 | 120
Co-Located and Integrated Care TRAC—Follow Up
Clients with HIV Receiving Integrated Medical Services ² | 120 | 1 | 120 | 0.58 | 69.6
Co-Located and Integrated Care TRAC—Discharge
Clients with HIV Receiving Integrated Medical Services—Interview with Client ³ | 28 | 1 | 28 | 0.58 | 16.2
Clients with HIV Receiving Integrated Medical Services—Interview with Client—Client not available—Administrative Data Only ⁴ | 42 | 1 | 42 | 0.33 | 13.9
Individuals only Receiving Prevention Services ⁵ | 800 | 1 | 800 | 0.06 | 48
HIV Indicators—Baseline
Clients with HIV Receiving Integrated Medical Services | 200 | 1 | 200 | 0.33 | 66
HIV Indicators—Follow-Up
Clients with HIV Receiving Integrated Medical Services | 120 | 1 | 120 | 0.25 | 30
Annual Total | 5,000 |  | 7,510 |  | 1,143

Written comments and recommendations concerning the proposed information collection should be sent by July 25, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-14792 Filed 6-24-14; 8:45 am]

BILLING CODE 4162-20-P